DEPARTMENT OF TRANSPORTATION

Federal Highway Administration

Notice of Final Federal Agency Actions on Proposed Highway Project in Colorado

AGENCY: Federal Highway Administration (FHWA), Department of Transportation (DOT).

ACTION: Notice of limitation on claims for judicial review of actions by FHWA.

SUMMARY: This notice announces actions taken by the FHWA that are final. The actions relate to a proposed highway project, I-25 South Gap: Monument to Castle Rock in El Paso and Douglas Counties, Colorado, FHWA Project Number NHPP 0252-450, Colorado Department of Transportation (CDOT) Number 21102.

DATES: By this notice, the FHWA is advising the public of final agency actions subject to 23 U.S.C. 139(l)(1). A claim seeking judicial review of the Federal agency actions on the highway project will be barred unless the claim is filed on or prior to January 22, 2019. If the Federal law that authorizes judicial review of a claim provides a time period of less than 150 days for filing such claim, then that shorter time period still applies.

FOR FURTHER INFORMATION CONTACT:

For FHWA: Mr. Nnaemeka Ezekwemba, FHWA Colorado Division, 12300 West Dakota Avenue, Suite 180, Lakewood, Colorado 80228, telephone: 720-963-3018; email: Nnaemeka.Ezekwemba@dot.gov. Normal business hours are 7:30 a.m. to 5:00 p.m. (Mountain Time), Monday through Friday, except Federal Holidays.

For CDOT: Mr. Chuck Attardo, Colorado Department of Transportation, 7328 South Revere Parkway, Unit 204A, Centennial, Colorado 80112, telephone: 303-365-7211, email: Chuck.Attardo@state.co.us. Normal business hours are 8:00 a.m. to 4:30 p.m. (Mountain Time), Monday through Friday, except Federal Holidays.

SUPPLEMENTARY INFORMATION: Effective June 27, 2018, FHWA assumed environmental responsibilities for this project pursuant to 23 U.S.C. 327. Notice is hereby given that FHWA has taken final agency actions subject to 23 U.S.C. 139(l)(1) by issuing a Finding of No Significant Impact (FONSI) for the following highway project in the State of Colorado: I-25 South Gap: Monument to Castle Rock in El Paso and Douglas Counties. CDOT proposes to widen I-25 in Douglas and El Paso Counties between Monument and Castle Rock (i.e., the Gap) to add a tolled Express Lane in each direction, widen shoulders, improve curves and sight distances, replace bridges, add wildlife underpasses, improve drainage and water quality, and install other supporting features.

The actions by FHWA, and the laws under which such actions were taken, are described in the Environmental Assessment (EA) for the project approved on April 25, 2018, and a Finding of No Significant Impact (FONSI) issued on June 27, 2018. The EA, FONSI, and other project records are available by contacting FHWA or CDOT at the addresses provided above. The EA and FONSI can be viewed and downloaded from the project website at https://www.codot.gov/projects/i-25-south-monument-castle-rock-ea.

This notice applies to all Federal agency decisions as of the issuance date of this notice and all laws under which such actions were taken, including but not limited to:

1. General: National Environmental Policy Act (NEPA) [42 U.S.C. 4321-4370h]; Federal-Aid Highway Act [Title 23] and associated regulations [CFR part 23].

2. Air: Clean Air Act [42 U.S.C. 7401-7671(q)] (transportation conformity); Intermodal Surface Transportation Efficiency Act of 1991, Congestion Mitigation and Air Quality Improvement Program (Sec. 1008 U.S.C. 149).

3. Noise: 23 U.S.C. 109(i) (Pub. L. 91-605) (Pub. L. 93-87).

4. Land: Section 4(f) of The Department of Transportation Act [49 U.S.C. 303], Farmland Protection Policy Act (FPPA) [7 U.S.C. 4201-4209]. Solid Waste Disposal Act, as amended by the Resource Conservation and Recovery Act of 1976 (42 U.S.C. 6901, et seq.); Landscaping and Scenic Enhancement (Wildflowers) [23 U.S.C. 319].

5. Wildlife: Endangered Species Act [16 U.S.C. 1531-1544]; Fish and Wildlife Coordination Act [16 U.S.C. 661-667(e)]; Migratory Bird Treaty Act [16 U.S.C. 703-712]; Plant Protection Act [7 U.S.C. 7701 et seq.].

6. Historic and Cultural Resources: Section 106 of the National Historic Preservation Act of 1966 [54 U.S.C. 306108]; Archeological Resources Protection Act of 1977 [16 U.S.C. 470(aa)-470(mm)]; Archeological and Historic Preservation Act [16 U.S.C. 469-469c-2]; American Indian Religious Freedom Act [42 U.S.C. 1996]; Native American Grave Protection and Repatriation Act [25 U.S.C. 3001-3013].

7. Social and Economic: Civil Rights Act of 1964 [42 U.S.C. 2000(d)-2000(d)(1)]; Uniform Relocation Assistance and Real Property Acquisition Act [42 U.S.C. 61].

8. Wetlands and Water Resources: Clean Water Act [33 U.S.C 1251-1387(Sections 319, 401, 404, and 408)]; Land and Water Conservation Fund Act [16 U.S.C. 460l-4—460l-11]; Safe Drinking Water Act [42 U.S.C. 300f—300j-9.]; Flood Disaster Protection Act [42 U.S.C. 4001-4129]; Emergency Wetlands Resources Act [16 U.S.C. 3921, 3931]; Flood Disaster Protection Act [42 U.S.C. 4001-4128].

9. Hazardous Materials: Comprehensive Environmental Response, Compensation, and Liability Act [42 U.S.C. 9601-9675]; Superfund Amendments and Reauthorization Act of 1986 [Pub. L. 99-499]; Resource Conservation and Recovery Act [42 U.S.C. 6901-6992(k)].

10. Executive Orders: E.O. 11514 Protection and Enhancement of Environmental Quality; E.O. 11593 Protection and Enhancement of Cultural Resources; E.O. 11988 Floodplain Management; E.O. 11990 Protection of Wetlands; E.O. 12898 Federal Actions to Address Environmental Justice in Minority Populations and Low Income Populations; E.O. 13007 Indian Sacred Sites; E.O. 13112 Invasive Species; E.O. 13175 Consultation and Coordination with Indian Tribal Governments; E.O. 13287 Preserve America; E.O. 13166 Improving Access to Services for Persons with Limited English Proficiency; E.O. 13186 Responsibilities of Federal Agencies to Protect Migratory Birds.

(Catalog of Federal Domestic Assistance Program Number 20.205, Highway Planning and Construction. The regulations implementing Executive Order 12372 regarding intergovernmental consultation on Federal programs and activities apply to this program.)

Authority: 23 U.S.C. 139(l)(1).

Issued on: August 13, 2018.
John M. Cater,
Division Administrator, Lakewood, Colorado.

[FR Doc. 2018-17971 Filed 8-23-18; 8:45 am]

BILLING CODE 4910-22-P